DEPARTMENT OF HEALTH AND HUMAN SERVICES

Health Resources and Services Administration

National Vaccine Injury Compensation Program: Revised Amount of the Average Cost of a Health Insurance Policy

The Health Resources and Services Administration (HRSA) is publishing an updated monetary amount of the average cost of a health insurance policy as it relates to the National Vaccine Injury Compensation Program (VICP).

Section 100.2 of the VICP's implementing regulation (42 CFR Part 100) states that the revised amounts of an average cost of a health insurance policy, as determined by the Secretary, are to be published periodically in a notice in the Federal Register. This figure is calculated using the most recent Medical Expenditure Panel Survey-Insurance Component (MEPS-IC) data available as the baseline for the average monthly cost of a health insurance policy. This baseline is adjusted by the annual percentage increase/decrease obtained from the most recent annual Kaiser Family Foundation and Health Research and Educational Trust (KFF/HRET) Employer Health Benefits survey or other authoritative source that may be more accurate or appropriate.

In 2009, MEPS-IC, available at http://www.meps.ahrq.gov, published the annual 2008 average total single premium per enrolled employee at private-sector establishments that provide health insurance. The figure published was $4,386. This figure is divided by 12-months to determine the cost per month of $365.50. The $365.50 shall be increased or decreased by the percentage change reported by the most recent KFF/HRET, available at http://www.kff.org. The percentage increase was published at 5 percent. By adding this percentage increase, the calculated average monthly cost of a health insurance policy for 12-month period is $383.78.

The Department will periodically (generally on an annual basis) recalculate the average cost of a health insurance policy by obtaining a new figure from the latest MEPS-IC data and updating this figure using the percentage change(s) reported by the most recent data from KFF/HRET or other authoritative source that may be more accurate or appropriate in the future. The updated calculation will be published as a notice in the Federal Register and filed with the Court.

Therefore, the Secretary announces that the revised average cost of a health insurance policy under the VICP is $383.78 per month. In accordance with § 100.2, the revised amount was effective upon its delivery by the Secretary to the United States Court of Federal Claims. Such notice was delivered to the Court on January 4, 2010.

Dated: January 11, 2010.
Mary K. Wakefield,
Administrator.

[FR Doc. 2010-675 Filed 1-14-10; 8:45 am]

BILLING CODE 4165-15-P